DEPARTMENT OF COMMERCE

International Trade Administration

[A-583-831]

Notice of Amended Final Determination in Accordance With Court Decision of the Antidumping Duty Investigation of Stainless Steel Sheet and Strip in Coils From Taiwan

AGENCY: Import Administration, International Trade Administration, Department of Commerce.

EFFECTIVE DATE: November 17, 2004.

FOR FURTHER INFORMATION CONTACT: Robert Bolling, Import Administration, International Trade Administration, U.S. Department of Commerce, 14th Street and Constitution Avenue, N.W., Washington, D.C. 20230; telephone: 482-3434.

SUMMARY: On January 15, 2004, the United States Court of Appeals for the Federal Circuit (“CAFC”) sustained the final remand determination of the Department of Commerce (“the Department”). See Tung Mung Development Co., Ltd. v. U.S., 354 F.3d 1371, C.A.Fed (Jan. 15, 2004) (“Tung Mung III”), and the Department's Final Results of Redetermination Pursuant to Court Remand in Tung Mung Development Co., Ltd. v. United States, Consol. Court No. 99-06-00457 (CIT July 3, 2001). As there is now a final and conclusive court decision in this case, we are amending our final determination of sales at less than fair value.

SUPPLEMENTARY INFORMATION:

Background

On June 8, 1999, the Department published the Final Determination of Sales at Less than Fair Value: Stainless Steel Sheet and Strip in Coils From Taiwan, 64 FR 30592 (June 8, 1999) (“Final Determination”), covering the period of investigation (“POI”) of April 1, 1997 through March 31, 1998. This investigation involved three Taiwanese producers/exporters, Tung Mung, Yieh United Steel Corporation (“YUSCO”), Chang Mien Industries Co., Ltd. (“Chang Mien”), and a Taiwanese middleman, Ta Chen Stainless Pipe Company Ltd. (“Ta Chen”). Tung Mung and YUSCO contested various aspects of the Final Determination. On July 3, 2001, the Court of International Trade (“CIT”) issued slip opinion 01-83 in Tung Mung Development Co., Ltd. v. United States, Consol. Court No. 99-06-00457 (CIT July 3, 2001) (“Tung Mung I”). The Court ordered the Department to reconsider its determination to apply single weighted-average cash- deposit rates for U.S. sales of subject merchandise made by Tung Mung and YUSCO and ordered the Department to “provide a reasonable explanation and substantial evidence for its change in practice” or “apply a combination rate, consistent with its prior practice.” See Tung Mung I at 33.

On remand, the Department determined that it was appropriate to apply the middleman- dumping computation using the combination rates for producers and middlemen, and the domestic producers appealed. On August 22, 2002, the CIT found that the Department's remand determination was in accordance with the law when it applied a combination rate consistent with its prior practice. See Tung Mung Development Co., Ltd. v. U.S., 219 F.Supp.2d 1333 (CIT Aug. 22, 2002) (“Tung Mung II”).

The domestic industry appealed this decision. In a separate proceeding, the domestic industry's representatives sought review of the antidumping determination involving stainless steel plate in coils (“SSPC”) from Taiwan. See Allegheny Ludlum Corp. v. U.S., 215 F.Supp.2d 1322 (CIT Dec. 28, 2000). On remand in SSPC, the Department determined that it was appropriate to apply the middleman-dumping computation using combination rates for producers and middlemen, and domestic producers appealed. The appeal for stainless steel sheet and strip in coils was consolidated before the CAFC with the appeal in the SSPC case.

On January 15, 2004, the CAFC ruled that the Department's decision to calculate middleman antidumping rates using combination rates was not arbitrary and capricious and affirmed the CIT's affirmance of the Department's redetermination.

As the litigation in this case is final and conclusive, we are amending our final determination of sales at less than fair value. As a result of the remand redetermination, we have recalculated the dumping margins for stainless steel sheet and strip in coils from Taiwan for YUSCO and Tung Mung based upon whether the merchandise is exported through Ta Chen or through other commercial transactions to the United States. The recalculated margins are as follows:

YUSCO | 21.10 percent
YUSCO/Ta Chen | 36.44 percent
Tung Mung | 00.00 percent
Tung Mung/Ta Chen | 15.40 percent

The Department will issue appraisement instructions for Tung Mung directly to U.S. Customs and Border Protection (“CBP”). The Department will instruct CBP to liquidate entries from Tung Mung without regard to antidumping duties because Tung Mung is excluded from the antidumping duty order, effective October 16, 2002, the date on which the Department published a notice of the Court decision (see Stainless Steel Sheet and Strip in Coils from Taiwan: Notice of Court Decision, 67 FR 63887 (October 16, 2002)).

This notice is issued and published in accordance with section 751(a)(1) of Act.

Dated: November 8, 2004.
James J. Jochum,
Assistant Secretary for Import Administration.

[FR Doc. E4-3199 Filed 11-16-04; 8:45 am]

BILLING CODE 3510-DS-S